DEPARTMENT OF TRANSPORTATION

Federal Aviation Administration

14 CFR Part 39

[Docket No. 98-NM-226-AD; Amendment 39-12342; AD 2001-15-08]

RIN 2120-AA64

Airworthiness Directives; Boeing Model 767-200, -300, and -300F Series Airplanes

AGENCY: Federal Aviation Administration, DOT.

ACTION: Final rule.

SUMMARY: This amendment supersedes an existing airworthiness directive (AD), applicable to all Boeing Model 767 series airplanes, that currently requires revising the Airplane Flight Manual (AFM) to include procedures that will ensure that the center tank fuel pumps are not operated with less than 1,000 pounds of fuel in the center tank. This amendment requires a further revision of the AFM to specify conditions for minimum fuel weight requirements and procedures for ground transfer of fuel for certain airplanes, repetitive inspections to detect discrepancies of the center tank override or override/jettison fuel pump, as applicable, and replacement of any discrepant pump with a new or serviceable pump. This amendment also requires that any override or override/jettison fuel pump without a diffuser be restored to a configuration that incorporates a diffuser. Additionally, this amendment requires installation of a new configuration center tank override or override/jettison fuel pump with a cast-in diffuser, which terminates the AFM revisions and repetitive inspections. The actions specified by this AD are intended to prevent ignition of fuel vapors due to the generation of sparks, to prevent a potential ignition source inside the fuel tank caused by steel-to-steel contact during dry fuel pump operation, and to ensure satisfactory fuel pump and fuel system operation.

DATES: Effective September 4, 2001.

The incorporation by reference of certain publications listed in the regulations is approved by the Director of the Federal Register as of September 4, 2001.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dennis Kammers, Aerospace Engineer, Propulsion Branch, ANM-140S, FAA, Seattle Aircraft Certification Office, 1601 Lind Avenue, SW., Renton, Washington 98055-4056; telephone (425) 227-2956; fax (425) 227-1181.

SUPPLEMENTARY INFORMATION: A proposal to amend part 39 of the Federal Aviation Regulations (14 CFR part 39) by superseding AD 97-19-15, amendment 39-10136 (62 FR 48754, September 17, 1997), which is applicable to all Boeing Model 767 series airplanes, was published in the Federal Register on August 17, 2000 (65 FR 50166). The action proposed to continue to require revising the Airplane Flight Manual (AFM) to include procedures that will ensure that the center tank fuel pumps are not operated with less than 1,000 pounds of fuel in the center tank. The action proposed to require a further revision of the AFM to specify conditions for minimum fuel weight requirements and procedures for ground transfer of fuel for certain airplanes, repetitive inspections to detect discrepancies of the center tank override/jettison fuel pumps, and replacement of any discrepant pump with a new or serviceable pump. The action also proposed to require that any override/jettison pump that incorporates a configuration without a diffuser be restored to a configuration that incorporates a diffuser. Additionally, the action proposed to require installation of a new configuration center tank fuel pump, which would terminate the AFM revisions regarding fuel system operating procedures and repetitive inspection requirements.

Explanation of New Method of Compliance

Paragraph (i) of the Notice of Proposed Rulemaking (NPRM) proposed to require installation of “modified center tank override and jettison fuel pumps that are not subject to the unsafe condition,” in accordance with a method approved by the FAA. Since the issuance of the proposed rule, the FAA has reviewed and approved Boeing Service Bulletins 767-28-0062 and 767-28-0063, both dated December 20, 2000. Boeing Service Bulletin 767-28-0062 provides procedures for accomplishment of the modification of the override and override/jettison fuel pumps. Boeing Service Bulletin 767-28-0063 provides procedures for installing a placard for the wing fueling station to advise that use of JP-4 or Jet B fuel in the center fuel tank is prohibited. The FAA has approved incorporation of these service bulletins as an acceptable means of compliance with paragraph (i) of this AD, and has added a new note, Note 5, to this final rule to acknowledge this means of compliance.

Comments

Interested persons have been afforded an opportunity to participate in the making of this amendment. Due consideration has been given to the comments received.

Support for the Proposal

One commenter supports the proposed rule.

Request To Limit Applicability of This AD

One commenter states that the applicability of the proposed rule should be restricted to Model 767-200 and -300 series airplanes with line numbers up to 797, and should not apply to any Model 767-400ER series airplanes. The commenter justifies its request on the fact that Model 767-200 and -300 series airplanes with line numbers 798 and higher are delivered with new override or override/jettison fuel pumps with cast-in diffusers, such as are required to be installed by paragraph (i) of this AD. The commenter states that the pump configuration with a cast-in diffuser is the only approved configuration for Model 767-400ER series airplanes. The commenter requests that the FAA revise the applicability of this AD to apply to airplanes on which an override or override/jettison fuel pump, as applicable, having a specific part number, is installed.

The FAA partially concurs with the commenter's request. The FAA does not concur with the commenter's request to list the applicability of the AD in terms of airplanes equipped with certain part numbers. Also, while the FAA acknowledges that airplanes with line numbers 798 and above were delivered with the new configuration override or override/jettison fuel pump, as applicable, the FAA is concerned that another pump configuration could be removed from an airplane with a line number before 798 and installed during line maintenance on a Model 767-200, -300, or -300F series airplane with a line number of 798 or above. Thus, the FAA finds it necessary to make this AD applicable to all Model 767-200, -300, and -300F series airplanes.

However, the FAA does concur that the only approved pump configuration for Model 767-400ER series airplanes is the new configuration pump with a cast-in diffuser, and the maintenance documentation for these airplanes correctly reflects this configuration without potential for confusion. Thus, the applicability of this AD has been revised to exclude all Model 767-400ER series airplanes.

Requests To Provide Relief for Airplanes With Deactivated Center Fuel Tanks

Two commenters request that the FAA provide relief from the requirement to install a modified override or override/jettison pump per paragraph (i) of the proposed AD for airplanes on which the center fuel tanks are deactivated as described by paragraph (f) of the proposed AD. One commenter points out that airplanes with center fuel tanks that have been deactivated have certain motor winding circuits open for the override or override/jettison fuel pumps, and'with no power available to operate the pumps'there is no chance of sparks being generated within the center fuel tank.

The FAA concurs with the commenters' request. The FAA has revised paragraph (f) of this final rule to specify that, for airplanes equipped with a center tank scavenge system on which the center fuel tank is deactivated, the pump replacement specified by paragraph (i) of this AD is not required.

Requests To Extend Compliance Time for Paragraph (i)

Several commenters request that the compliance time for the installation of new configuration override or override/jettison fuel pumps be extended beyond the 24 months specified in paragraph (i) of the proposed rule. Several commenters request an increase in the compliance time to 60 months, while one commenter suggests a compliance time of 48 months. The commenters state that replacement of the center tank override or override/jettison fuel pumps within 24 months after the effective date of this AD is not reasonable nor practical. The commenters' reasons include the facts that a sufficient quantity of replacement parts will not be available in the proposed 24-month compliance period, and overhaul facilities will be unable to complete the work on the affected fleet of airplanes within that timeframe. Related to the request to extend the compliance time for the requirements of paragraph (i) of the proposed AD, one additional commenter asks that, if the compliance time for paragraph (i) cannot be extended beyond 24 months, the requirement be removed from this AD and issued as a separate action. An additional commenter simply asks for the supply plan for the modified override or override/jettison fuel pumps, so that it can better understand the availability of the new configuration override or override/jettison fuel pumps.

The FAA partially concurs with the commenters' requests to extend the compliance time. Based on discussions with the airplane manufacturer and the manufacturer of the override and override/jettison fuel pumps, the FAA has determined that a compliance time of 36 months after the effective date of this AD for the replacement of the affected override or override/jettison fuel pumps with new configuration pumps is sufficient for an adequate quantity of new configuration parts to be available and for overhaul facilities to be able to schedule modification of the affected fleet of airplanes. At the same time, the FAA has determined that the combination of inspections and revised flight crew procedures required by this AD will be adequate to ensure an acceptable level of safety for the affected airplanes during the 36-month compliance time. The FAA has revised paragraph (i) of this AD accordingly.

Further, the FAA finds that similar rationale supports an extension of the compliance time for paragraphs (g) and (h) of this AD. A 36-month compliance time for those paragraphs will allow new configuration override or override/jettison fuel pumps to be installed to achieve compliance with these paragraphs. Therefore, the FAA has also revised paragraphs (g) and (h) of this AD accordingly.

With regard to one commenter's request to remove the requirements of paragraph (i) from this AD and issue a separate AD to require the actions in that paragraph, the FAA finds that to further delay implementation of the requirements of paragraph (i) of this AD in that way would be inappropriate. The FAA has determined that 36 months is the maximum interval allowable wherein the affected airplanes can continue to operate without incorporation of the new configuration override or override/jettison fuel pumps. No change is necessary in this regard.

Specifically with regard to one commenter's request to provide a supply plan for the replacement override or override/jettison fuel pumps, the FAA interprets this request as an expression of concern about the compliance time. Based on information received from the manufacturer, the FAA has determined that a sufficient quantity of replacement parts will be available within the 36-month compliance time for paragraph (i) of this final rule. However, if the commenter wants more information on the supply plan, the pump manufacturer may be able to provide this information. No change to the final rule is necessary in this regard.

Requests To Correct Language/References in Proposed Rule

Several commenters request changes in various technical terms and correction of typographical errors in the proposed rule, as follows:

• One commenter requests that the proposed rule be revised to reference not just override pumps but also override/jettison pumps throughout the AD, where applicable. The commenter notes that the proposed rule pertains to both the override and override/jettison fuel boost pumps on Model 767 series airplanes.

• Two commenters request that the terminology “metal-to-metal contact” in the statement of unsafe condition in various places in the proposed AD be changed to “steel-to-steel contact.” The commenters state that this change will provide clarification.

• One commenter requests that the statement of what prompted the proposed rule be revised in the summary to refer to other, more likely, failure modes instead of only cracks in the diffuser assembly.

• Two commenters request correction of a typographical error in Note 2 of the proposed rule, so that the note refers to paragraph (e) rather than paragraph (d). The commenters correctly note that paragraph (d) doesn't specify an inspection.

• One commenter requests that the heading that precedes paragraph (i) of the proposed rule be changed from “Installation of Modified Pumps” to “Installation of New Configuration Pumps.”

The FAA concurs with the commenters” requests as stated above, and has revised the appropriate sections of this final rule accordingly.

One commenter made two additional requests for clarification. The commenter asks the FAA to revise the last line in the “Explanation of Requirements of Proposed Rule” section of the proposed rule, to delete the reference to Boeing Service Bulletin 767-28-0052, dated May 20, 1999, as being relevant to inspection and replacement of override and override/jettison fuel pumps with machined diffusers installed. The commenter points out that the instructions in Boeing Service Bulletin 767-28-0052 are only for installing an override or override/jettison pump that did not incorporate a diffuser. The same commenter also asks that the FAA revise the same section to state that the proposed rule proposes elimination of override or override/jettison pumps that do not incorporate diffusers, and that paragraph (i) requires installation of a new override or override/jettison pump that is no longer subject to the unsafe condition.

While the FAA concurs with these comments in principle and acknowledges that a typographical error resulted in a reference to Boeing Service Bulletin 767-28-0052 instead of Boeing Service Bulletin 767-28A0057, this final rule does not restate the section of the proposed rule wherein the commenter has requested changes. Therefore, no change to the final rule has been made in this regard.

Requests for Changes to Cost Impact Section

Two commenters request that the FAA make various changes to the information contained in the cost impact section.

One commenter requests that the FAA update its estimates for the number of airplanes affected by this AD. The commenter states that the total number of affected airplanes in the worldwide fleet is 784, and the total number of these affected airplanes on the U.S. registry is 325. The FAA concurs with the commenter's request and has revised the cost impact section accordingly.

Another commenter makes several requests pertaining to the portion of the Cost Impact section that discusses the modification of the override or override/jettison fuel pumps. When the proposed rule was issued, the manufacturer had not yet developed a modification of the override or override/jettison fuel pumps, and the Cost Impact section of the proposed rule reflected this fact. The commenter requests that the FAA make various revisions to the Cost Impact information to reflect the manufacturer's issuance of service information that provides information for accomplishing the modification of override or override/jettison pumps.

The FAA concurs with the commenters' requests. As stated previously, incorporation of both Boeing Service Bulletins 767-28-0062 and 767-28-0063 is approved as a method of compliance with paragraph (i) of this AD. The FAA has revised the Cost Impact section of this final rule to include information from those service bulletins.

The second commenter also requests that the FAA revise the cost information for the installation of an override or override/jettison pump with an inlet diffuser as required by this AD, to remove the statement that required parts will be provided at no cost to operators. The commenter states that the cost, terms, and conditions associated with installation of any new parts required by this AD will be addressed separately from this AD. The FAA concurs with the commenter's request, and has revised the Cost Impact section of this final rule accordingly.

Request To Exclude Airplanes With New Override or Override/Jettison Pumps

One commenter requests that, for clarification, the FAA revise the proposed rule to include a statement that certain paragraphs of this AD do not apply to airplanes with new configuration override or override/jettison fuel pumps (i.e., pumps incorporating a cast-in diffuser). The FAA infers that the commenter is referring to paragraphs (g), (h), and (i) of this AD.

The FAA concurs that airplanes with the new configuration override or override/jettison fuel pumps are not subject to these requirements. However, the FAA finds that further clarification can be made. Credit for actions in an AD that have already been accomplished is always provided by means of the statement in the “Compliance” section of every AD, “Required as indicated, unless accomplished previously.” In this AD, this statement gives credit for Model 767-200, -300, and -300F series airplanes on which a new configuration override or override/jettison fuel pump with a cast-in diffuser has been installed during manufacture or by accomplishment of Boeing Service Bulletins 767-28-0062 and 767-28-0063 (described previously). No change to the final rule is necessary in this regard.

Request To Give Credit for Previous Inspections Per Paragraph (e)

One commenter requests that the FAA allow credit for inspections according to paragraph (e) of the proposed AD that have been accomplished previously.

The FAA concurs with the commenter's request but notes that no change to the final rule is necessary to provide for such credit. Credit is always given for actions accomplished before the effective date of an AD by means of the phrase in the “Compliance” statement of the AD: “Required as indicated, unless accomplished previously.”

Request To Remove Reference to Scavenge System

One commenter requests that the FAA remove the statement “For airplanes equipped with a center tank scavenge system” from paragraph (f) of the proposed rule. The commenter states that removing this statement will clarify this requirement because if a fuel tank is deactivated, it doesn't matter if the airplane has a center tank scavenge transfer system with respect to doing the inspections in paragraph (e) of this AD.

The FAA partially concurs with the commenter. The FAA acknowledges that the center tank may only be deactivated if the airplane is equipped with a center tank scavenge system, so the reference in paragraph (f) may seem redundant. However, the FAA finds that there is no technical inaccuracy in paragraph (f), nor is the requirement unclear; thus, no change to the final rule is necessary in this regard.

Request To Revise Compliance Time for Paragraph (a)

One commenter requests that the compliance time for paragraph (a) of the proposed AD be revised from 14 days after October 2, 1997 (the effective date of AD 97-19-15), to 14 days after the effective date of this AD. The commenter states that it is confusing to have a compliance time of 14 days after October 2, 1997, because that date has passed. The commenter notes that this is especially confusing in light of the addition of paragraph (c) to this AD.

The FAA does not concur with the commenter's request. The purpose of carrying over the compliance time for the requirements of AD 97-19-15 is to ensure that the requirement for revising the AFM is continued without interruption. Paragraph (c) of this AD simply adds alternative wording for the AFM revision previously required by paragraph (b) of AD 97-19-15, but paragraph (b) is still acceptable for compliance. Referring to the October 2, 1997, effective date of AD 97-19-15 also ensures that any airplanes already in compliance with that AD do not have to comply again with paragraph (b) or (c) of this AD. No change to the final rule is necessary in this regard.

Requests To Revise Paragraph (c)

One commenter requests that paragraph (c)(1) be revised to read, “If the center tank fuel pumps are to be used for takeoff, there must be at least 5,000 pounds (2,267 kilograms) of fuel in the center tank prior to initial engine start.” The commenter suggests that the reference to the poundage of fuel in the center tank “when the entry doors are closed with the airplane readied for initial taxi” may cause confusion for the flight crew in any operational scenario involving reopening an entry door after the airplane is readied for initial taxi.

The FAA neither agrees nor disagrees with the commenter. Paragraph (a) of this AD allows accomplishment of either paragraph (b) or (c) of the AD, and paragraph (b) differs from paragraph (c) of this AD in that (b)(1) contains essentially the same wording as suggested by the commenter. However, if the commenter finds it necessary to use words other than those given in paragraph (b) or (c), it may submit a request for approval of an alternative method of compliance (AMOC) under paragraph (n) of this AD. No change to the final rule is necessary in this regard.

In a related issue, another commenter requests that the requirements of paragraphs (b) and (c) of the proposed rule be stated only once. The commenter states that the two paragraphs have identical wording and there is no distinction as to differences in the airplane models to which each paragraph applies.

The FAA does not concur with the commenter's request. The wording of the AFM revisions specified in paragraphs (b)(1) and (c)(1) are slightly different, as discussed above. Paragraph (c)(1) was added in this AD to allow operators an alternative to revising the AFM with the wording in paragraph (b)(1). No change to the final rule is necessary in this regard.

Request To Extend Inspection Compliance Time

One commenter requests that the compliance time for the initial inspection of the override or override/jettison fuel pumps in paragraph (e) of the proposed rule be extended from 60 days to 120 days after the effective date of this AD. The commenter states that such a compliance time would permit both the initial and repetitive inspections required by paragraph (e) to be performed during regular scheduled maintenance visits, thus allowing operators to avoid operational difficulties associated with unscheduled maintenance visits.

The FAA does not concur with the commenter's request to extend the compliance time for the inspection required by paragraph (e) of this AD. In developing an appropriate compliance time for this action, the FAA considered not only the degree of urgency associated with addressing the identified unsafe condition, but also the manufacturer's recommendation of a 60-day compliance time, and the practical aspects of performing the inspections at intervals that parallel regular scheduled maintenance for the majority of affected operators. The FAA finds that there is no technical justification for an extension of this compliance time; thus no change to the final rule is necessary in this regard.

Request To Extend Repetitive Interval for Inspection

One commenter recommends that the repetitive interval for the proposed inspection in paragraph (e) be extended from 1,000 flight hours to 1,300 flight hours. The commenter bases its request on the fact that it has not found any discrepancies since it started the repetitive inspections two years ago. The commenter states that extension of the repetitive interval to 1,300 flight hours would reduce the amount of down-time for subject airplanes, and will allow the inspection to be done on the override or override/jettison fuel pump on the left side of the airplane at one “A” check, and on the pump on the right side of the airplane at the following “A” check. The commenter notes that inspecting one side per “A” check will reduce the chance for “dual sided mistakes.” The commenter also states that extending the repetitive interval will reduce the potential for damage to the fuel pumps, O-rings, and other parts due to being subjected to repetitive inspections.

The FAA does not concur with the commenter's request to extend the interval for the repetitive inspections in paragraph (e) of this AD. In developing an appropriate compliance time for this action, the FAA considered not only the degree of urgency associated with addressing the identified unsafe condition, but also the manufacturer's recommendation for a repetitive interval, and the practical aspects of performing the inspections at intervals that parallel regular scheduled maintenance for the majority of affected operators. In addition, in response to some of the operator's descriptions of its current procedures, the FAA notes that O-rings must be replaced with new parts each time an override or override/jettison pump is installed.

After considering the factors mentioned above, the FAA has determined that 1,000 flight hours is an adequate repetitive interval to ensure the safety of the affected airplanes. Should the operator wish to gain approval for use of an alternate inspection schedule that provides an equivalent level of safety, the operator may submit a request for approval of an AMOC under paragraph (n) of this AD. No change to the final rule is necessary in this regard.

Request To Include Serial Numbers of Pumps With Cracks

One commenter requests that, for clarification, the FAA revise the proposed rule to include the serial numbers of the override or override/jettison fuel pumps on which the inlet diffuser was found cracked. The same commenter asks that the statement in the Summary section of the proposed rule, “The proposed AD would also require installation of a new configuration center tank fuel pump, which would terminate”' be revised to specifically state that the new configuration center tank override or override/jettison fuel pump incorporates a cast-in diffuser and two-window shutoff sleeve.

The FAA does not concur with the commenter's requests to include these pieces of information in this AD. The FAA does not find any merit in referring to the specific serial numbers of the override or override/jettison pumps that failed and finds no technical justification for supplying this information. In addition, the FAA notes that details are minimized in the summary of AD actions, thus the FAA does not consider it necessary to incorporate this level of detail in the summary of this AD. No change to the final rule is necessary in this regard.

Explanation of Change to Paragraph (d)

Paragraph (d) of the proposed rule applied the actions in that paragraph to certain Model 767-200 and -300 series airplanes. The FAA inadvertently omitted a reference to Model 767-300F series airplanes in that paragraph. Therefore, for clarification, the FAA has revised paragraph (d) of this final rule to state that the paragraph applies to certain Model 767-200, -300, and -300F series airplanes.

Conclusion

After careful review of the available data, including the comments noted above, the FAA has determined that air safety and the public interest require the adoption of the rule with the changes previously described. The FAA has determined that these changes will neither increase the economic burden on any operator nor increase the scope of the AD.

Cost Impact

There are approximately 784 Model 767-200, -300, and -300F series airplanes of the affected design in the worldwide fleet. The FAA estimates that 325 airplanes of U.S. registry will be affected by this AD.

The AFM revisions that are currently required by AD 97-19-15, and retained in this AD, take approximately 1 work hour per airplane to accomplish, at an average labor rate of $60 per work hour. Based on these figures, the cost impact of the currently required actions on U.S. operators is estimated to be $60 per airplane.

The new AFM revisions will take approximately 1 work hour per airplane to accomplish, at an average labor rate of $60 per work hour. Based on these figures, the cost impact of the new AFM revisions required by this AD on U.S. operators is estimated to be $19,500, or $60 per airplane.

The inspection required by this AD will take approximately 3 or 6 work hours per airplane to accomplish (3 hours for airplanes not equipped with override/jettison fuel pumps, 6 hours for airplanes equipped with override/jettison fuel pumps), at an average labor rate of $60 per work hour. Based on these figures, the cost impact of this inspection on U.S. operators is estimated to be $180 or $360 per airplane, per inspection cycle.

Should an operator be required to install a center tank override or override/jettison fuel pump equipped with an inlet diffuser (as required by paragraph (g) or (h) of this AD) separately from a new-configuration override or override/jettison fuel pump (as required by paragraph (i) of this AD), it will take approximately 5 work hours per pump to accomplish, at an average labor rate of $60 per work hour. Required parts will cost approximately $11,901 per pump. Based on these figures, the cost impact of this pump installation is estimated to be $12,201 per pump. (There may be up to four pumps per airplane, depending on whether override/jettison fuel pumps are installed.)

Paragraph (i) of this AD requires installing new configuration center tank override or override/jettison fuel pumps per a method approved by the FAA. As stated previously, since the issuance of the NPRM, the FAA has approved incorporation of Boeing Service Bulletins 767-28-0062 and 767-28-0063 as an acceptable means of accomplishing this action. Based on the information contained in those service bulletins, the installation of a new configuration center tank override or override/jettison fuel pump will take approximately 8 work hours per airplane to accomplish, at an average labor rate of $60 per work hour. Required parts will cost between $22,182 and $44,364 per airplane, depending on the number of pumps that are installed on the airplane ($11,091 per pump). Based on these figures, the cost impact of this installation on U.S. operators is estimated to be between $22,662 and $44,844 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10136 (62 FR 48754, September 17, 1997), and by adding a new airworthiness directive (AD), amendment 39-12342, to read as follows:

2001-15-08 Boeing: Amendment 39-12342. Docket 98-NM-226-AD. Supersedes AD 97-19-15, Amendment 39-10136.

Applicability: All Model 767-200, -300, and -300F series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (n)(1) of this AD. The request should include an assessment of the effect of the modification, alteration, or repair on the unsafe condition addressed by this AD; and, if the unsafe condition has not been eliminated, the request should include specific proposed actions to address it.

Compliance: Required as indicated, unless accomplished previously.

To prevent ignition of fuel vapors due to the generation of sparks and a potential ignition source inside the fuel tank caused by steel-to-steel contact during dry fuel pump operation, accomplish the following:

AFM Revisions: Alternatives

(a) Within 14 days after October 2, 1997 (the effective date of AD 97-19-15), accomplish the actions specified by either paragraph (b) or (c) of this AD.

Restatement of Requirements of AD 97-19-15

(b) Accomplish paragraphs (b)(1), (b)(2), (b)(3), and (b)(4) of this AD.

(1) Revise the Limitations Section of the FAA-approved Airplane Flight Manual (AFM) to include the following procedures. This may be accomplished by inserting a copy of this AD in the AFM.

“If the center tank fuel pumps are to be used, there must be at least 5,000 pounds (2,267 kilograms) of fuel in the center tank prior to engine start.

The center fuel pumps must be selected ‘OFF’ at or greater than 1,000 pounds (453 kilograms) of fuel in the center tank. For airplanes not equipped with a center tank scavenge system, this 1,000 pounds (453 kilograms) of center tank fuel must be considered unusable.

Note: On all Model 767-200ER/300ER series airplanes and some Model 767-200/300 series airplanes, a scavenge system, operating with fuel pressure from the main wing tank pumps, will operate automatically to transfer any fuel remaining in the center tank to the main tanks. Fuel transfer begins when the main tanks are approximately half empty.”

(2) Revise the Limitations Section of the FAA-approved AFM procedure titled “FUEL SYSTEM, FUEL USAGE II (fuel in center tank),” to include the following procedures. This may be accomplished by inserting a copy of this AD into the AFM.

“Use the center tank fuel for all operations with all operable fuel pumps “ON” and the cross feed valve(s) closed until the center tank fuel quantity is 1,000 pounds (453 kilograms) or greater, then use FUEL USAGE I.

Do not operate the center tank fuel pumps with less than 1,000 pounds (453 kilograms) of fuel in the center tank.

Note: The crossfeed valve(s) is open for minimum fuel operation, and may be opened to correct fuel imbalance.”

(3) Revise the Normal Procedures Section of the FAA-approved AFM to include the following procedure. This may be accomplished by inserting a copy of this AD into the AFM.

“USE OF FUEL FROM THE CENTER TANK

When the center tank approaches ‘EMPTY’ during normal use or fuel transfer, select both center tank fuel pump switches ‘OFF’ with the first occurrence of any of the following:

• The center tank fuel reaches 1,000 pounds (453 kilograms);

• Either of the center tank fuel pump ‘PRESS’ lights illuminate; or

• Either the ‘CTR L FUEL PUMP’ or ‘CTR R FUEL PUMP’ EICAS message is displayed.”

(4) Revise the Non-Normal Procedures Section of the FAA-approved AFM to include the following procedures. This may be accomplished by inserting a copy of this AD into the AFM.

“CENTER TANK FUEL PUMP FAULTS

A center tank fuel pump failure may have occurred if a fuel pump pressure light illuminates when there is ample fuel in the tank. If a fault is suspected, select the affected pump ‘OFF’ and do not re-select “ON.” If the affected circuit breaker is tripped, do not reset. Select fuel crossfeed valve(s) ‘OPEN.’

Attempted operation of a faulted center tank pump could ignite fuel tank vapors in an empty or nearly empty tank.”

New Requirements of This AD

(c) Accomplish the actions required by paragraphs (c)(1), (c)(2), (c)(3), and (c)(4) of this AD. Following accomplishment of the requirements of these paragraphs, the AFM revisions required by paragraph (b) of this AD may be removed from the AFM.

(1) Revise the Limitations Section of the FAA-approved AFM to include the following procedures. This may be accomplished by inserting a copy of this AD in the AFM.

“If the center tank fuel pumps are to be used, there must be at least 5,000 pounds (2,267 kilograms) of fuel in the center tank when the entry doors are closed with the airplane readied for initial taxi.

The center fuel pumps must be selected “OFF” at or greater than 1,000 pounds (453 kilograms) of fuel in the center tank. For airplanes not equipped with a center tank scavenge system, this 1,000 pounds (453 kilograms) of center tank fuel must be considered unusable.

Note: On all Model 767-200ER/300ER series airplanes and some Model 767-200/300 series airplanes, a scavenge system, operating with fuel pressure from the main wing tank pumps, will operate automatically to transfer any fuel remaining in the center tank to the main tanks. Fuel transfer begins when the main tanks are approximately half empty.”

(2) Revise the Limitations Section of the FAA-approved AFM procedure titled “FUEL SYSTEM, FUEL USAGE II (fuel in center tank),” to include the following procedures. This may be accomplished by inserting a copy of this AD into the AFM.

“Use the center tank fuel for all operations with all operable fuel pumps “ON” and the cross feed valve(s) closed until the center tank fuel quantity is 1,000 pounds (453 kilograms) or greater, then use FUEL USAGE I.

Do not operate the center tank fuel pumps with less than 1,000 pounds (453 kilograms) of fuel in the center tank.

Note: The crossfeed valve(s) is open for minimum fuel operation, and may be opened to correct fuel imbalance.”

(3) Revise the Normal Procedures Section of the FAA-approved AFM to include the following procedure. This may be accomplished by inserting a copy of this AD into the AFM.

“USE OF FUEL FROM THE CENTER TANK

When the center tank approaches ‘EMPTY’ during normal use or fuel transfer, select both center tank fuel pump switches “OFF” with the first occurrence of any of the following:

• The center tank fuel reaches 1,000 pounds (453 kilograms);

• Either of the center tank fuel pump “PRESS” lights illuminate; or

• Either the ‘CTR L FUEL PUMP’ or ‘CTR R FUEL PUMP’ EICAS message is displayed.”

(4) Revise the Non-Normal Procedures Section of the FAA-approved AFM to include the following procedures. This may be accomplished by inserting a copy of this AD into the AFM.

“CENTER TANK FUEL PUMP FAULTS

A center tank fuel pump failure may have occurred if a fuel pump pressure light illuminates when there is ample fuel in the tank. If a fault is suspected, select the affected pump ‘OFF’ and do not re-select ‘ON.’ If the affected circuit breaker is tripped, do not reset. Select fuel crossfeed valve(s) ‘OPEN.’

Attempted operation of a faulted center tank pump could ignite fuel tank vapors in an empty or nearly empty tank.”

Ground Transfer of Fuel

(d) For Model 767-200, -300, and -300F series airplanes that are equipped with any override or override/jettison fuel pump having part number S343T002-5, -8, -12, or -15 (which are configured with machined inlet diffusers) and that are not equipped with a center tank scavenge system: For any period during which ground transfer of fuel is accomplished below 1,000 pounds (453 kilograms), accomplish the ground fuel pressure defueling actions specified by paragraphs (d)(1) and (d)(2), in accordance with the Boeing 767 Maintenance Manual Section 28-26-00, Pressure Defueling Procedures, titled “For Override Pumps with a Diffuser Installed.”

(1) Only one center tank pump may be operated, and that pump must be selected “OFF” at or greater than 400 pounds (200 kilograms), as indicated on the center tank fuel quantity indication system (FQIS), or at the first indication of a pump low pressure light.

(2) The pitch attitude of the airplane must be recorded prior to this procedure to verify that it is between −1 and +2 degrees. This may be accomplished by viewing the pitch inclinometer, located in the left main gear wheel well.

Repetitive Inspections

(e) For airplanes that are equipped with any override or override/jettison fuel pump having part number S343T002-5, -8, -12, or -15 (which are configured with machined inlet diffusers), except as provided by paragraph (f) of this AD: Within 60 days after the effective date of this AD, remove the override fuel pump and override/jettison fuel pump, as applicable, of the center tank, and perform a detailed visual inspection of the pump to detect discrepancies (cracking, screw movement, and diffuser movement), in accordance with Boeing Alert Service Bulletin 767-28A0050, dated December 18, 1997; or Revision 1, dated December 22, 1999. Repeat the inspection thereafter at intervals not to exceed 1,000 flight hours.

(1) If no discrepancy is detected, prior to further flight, reinstall the pump in accordance with the alert service bulletin.

(2) If any discrepancy is detected, prior to further flight, replace the pump with a new or serviceable pump, in accordance with the alert service bulletin.

Note 2: Boeing Alert Service Bulletin 767-28A0050 refers to Sundstrand Alert Service Bulletin 5006286-28-A8, dated October 10, 1997, as an additional source of service information for accomplishment of the inspection required by paragraph (e) of this AD.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(f) For airplanes equipped with a center tank scavenge system: For any period during which the center fuel tank is deactivated in accordance with Boeing Alert Service Bulletin 767-28A0050, dated December 18, 1997, or Revision 1, dated December 22, 1999, the actions specified by paragraphs (e) and (i) of this AD are not required. As of 36 months after the effective date of this AD, modified fuel pumps must be installed according to paragraph (i) of this AD before the center fuel tank may be reactivated.

Pump Replacement

(g) For airplanes that are equipped with any override fuel pump having part number S343T002-23, -51, -81, or -121 (which are configured without inlet diffusers): Within 36 months after the effective date of this AD, accomplish the actions specified by either paragraph (g)(1) or (g)(2) of this AD.

(1) Replace the override fuel pump with a fuel pump having a machined inlet diffuser installed, in accordance with Boeing Alert Service Bulletin 767-28A0057, dated November 18, 1999. Or

(2) Replace the override fuel pump with a fuel pump modified in accordance with paragraph (i) of this AD.

(h) For airplanes that are equipped with any override/jettison fuel pump having part number S343T002-23, -51, -81, or -121 (which are configured WITHOUT inlet diffusers): Within 36 months after the effective date of this AD, accomplish the actions specified by either paragraph (h)(1) or (h)(2) of this AD.

(1) Replace the override/jettison fuel pump with a fuel pump having a machined inlet diffuser installed, in accordance with Boeing Service Bulletin 767-28-0059, dated December 22, 1999. Or

(2) Replace the override/jettison fuel pump with a fuel pump modified in accordance with paragraph (i) of this AD.

Installation of New Configuration Pumps

(i) For all airplanes: Within 36 months after the effective date of this AD, install modified center tank override and override/jettison fuel pumps that are not subject to the unsafe condition described in this AD. The installation shall be accomplished in accordance with a method approved by the Manager, Seattle Aircraft Certification Office (ACO), FAA.

Note 4: Installation of new configuration override or override/jettison fuel pumps, as applicable, in accordance with Boeing Service Bulletin 767-28-0062, dated December 20, 2000; and a fueling station placard, in accordance with Boeing Service Bulletin 767-28-0063, dated December 20, 2000; or accomplishment of equivalent actions during production; are approved means of compliance with paragraph (i) of this AD.

Terminating Action

(j) Accomplishment of the requirements of paragraph (e) of this AD constitutes terminating action for the requirements of AD 94-11-05, amendment 39-8921 (59 FR 27970, May 31, 1994).

(k) Accomplishment of the requirements of paragraph (i) of this AD constitutes terminating action for the requirements of paragraphs (a), (b), (c), (d), (e), (g), and (h) of this AD, and the requirements of AD 94-11-05, amendment 39-8921.

Spares

(l) As of the effective date of this AD, no person shall install on any airplane a fuel pump having part number S343T002-5, -8, -12, or -15, unless that pump has been inspected and corrective actions have been performed in accordance with the requirements of either paragraph (b) or (c), and paragraph (e), of this AD.

(m) As of the effective date of this AD, no person shall install on any airplane a fuel pump having part number S343T002-23, -51, -81, or -121.

Alternative Methods of Compliance

(n)(1) An alternative method of compliance or adjustment of the compliance time that provides an acceptable level of safety may be used if approved by the Manager, Seattle ACO. Operators shall submit their requests through an appropriate FAA Principal Maintenance Inspector, who may add comments and then send it to the Manager, Seattle ACO.

(2) Alternative methods of compliance, approved previously in accordance with AD 97-19-15, amendment 39-10136, are approved as alternative methods of compliance when performing the requirements of paragraphs (b) and (c) of this AD.

Note 5: Information concerning the existence of approved alternative methods of compliance with this AD, if any, may be obtained from the Seattle ACO.

Special Flight Permits

(o) Special flight permits may be issued in accordance with §§ 21.197 and 21.199 of the Federal Aviation Regulations (14 CFR 21.197 and 21.199) to operate the airplane to a location where the requirements of this AD can be accomplished.

Incorporation by Reference

(p) Except as provided by paragraphs (a), (b), (c), (d), (f), (g)(2), (h)(2), and (i) of this AD; the actions shall be done in accordance with Boeing Alert Service Bulletin 767-28A0050, dated December 18, 1997, or Boeing Service Bulletin 767-28A0050, Revision 1, dated December 22, 1999; Boeing Alert Service Bulletin 767-28A0057, dated November 18, 1999; or Boeing Service Bulletin 767-28-0059, dated December 22, 1999; as applicable. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(q) This amendment becomes effective on September 4, 2001.

Issued in Renton, Washington, on July 19, 2001.
Donald L. Riggin,
Acting Manager, Transport Airplane Directorate, Aircraft Certification Service.

[FR Doc. 01-18471 Filed 7-30-01; 8:45 am]

BILLING CODE 4910-13-U